DEPARTMENT OF HEALTH AND HUMAN SERVICES

Centers for Disease Control and Prevention

Disease, Disability, and Injury Prevention and Control Special Emphasis Panel: Occupational Safety and Health Education, PAR-05-107, and Research Center and Occupational Safety and Health Training Projects Grants, PAR-05-126

Correction: This notice was published in the Federal Register on March 1, 2006, Volume 71, Number 40, page 10538. The titles for the Special Emphasis Panel meetings have been changed.

Titles: Program Announcement for Research (PAR) 05-107, Occupational Safety and Health Education and Research Centers, and Program Announcement for Research (PAR) 05-126, Occupational Safety and Health Training Project Grants.

FOR MORE INFORMATION CONTACT: Charles N. Rafferty, PhD, Designated Federal Official, National Institute for Occupational Safety and Health, CDC, 1600 Clifton Road, NE., Mailstop E-74, Atlanta, GA 30333, Telephone Number (404) 498-2582.

The Director, Management Analysis and Services Office, has been delegated the authority to sign Federal Register notices pertaining to announcements of meetings and other committee management activities, for both CDC and the Agency for Toxic Substances and Disease Registry.

Dated: March 8, 2006.
Alvin Hall,
Director, Management Analysis and Services Office, Centers for Disease Control and Prevention.

[FR Doc. E6-3564 Filed 3-13-06; 8:45 am]

BILLING CODE 4163-18-P